DEPARTMENT OF EDUCATION

Applications for New Awards; Technical Assistance and Dissemination To Improve Services and Results for Children With Disabilities—Center on Dispute Resolution

AGENCY: Office of Special Education and Rehabilitative Services, Department of Education.

ACTION: Notice.

Overview Information:

Technical Assistance and Dissemination to Improve Services and Results for Children With Disabilities—Center on Dispute Resolution.

Notice inviting applications for a new award for fiscal year (FY) 2013.

Catalog of Federal Domestic Assistance (CFDA) Number: 84.326X.

DATES:

Applications Available: April 18, 2013.

Deadline for Transmittal of Applications: June 3, 2013.

Deadline for Intergovernmental Review: August 1, 2013.

Full Text of Announcement

I. Funding Opportunity Description

Purpose of Program: The purpose of the Technical Assistance and Dissemination to Improve Services and Results for Children with Disabilities program is to promote academic achievement and to improve results for children with disabilities by providing technical assistance, supporting model demonstration projects, disseminating useful information, and implementing activities that are supported by scientifically based research.

Priority: In accordance with 34 CFR 75.105(b)(2)(v), this priority is from allowable activities specified or otherwise authorized in the statute (see sections 663 and 681(d) of the Individuals with Disabilities Education Act (IDEA), 20 U.S.C. 1463 and 1481(d)).

Absolute Priority: For FY 2013 and any subsequent year in which we make awards from the list of unfunded applicants from this competition, this priority is an absolute priority. Under 34 CFR 75.105(c)(3) we consider only applications that meet this priority.

This priority is:

Center on Dispute Resolution.

Background:

IDEA includes procedural safeguards that are designed to protect the rights of children with disabilities and their parents and to provide parents with mechanisms for resolving, at the earliest point in time, disputes with those who provide services to children with disabilities (State educational agencies (SEAs), local educational agencies (LEAs), schools, Part C State lead agencies, and early intervention service (EIS) providers). The procedural safeguards include the opportunity to seek a timely resolution of disputes about any matter relating to the provision of a free appropriate public education to an eligible child or of appropriate early intervention services to infants and toddlers with disabilities. Thus, IDEA encourages constructive relationships between parents of children with disabilities and those who provide services to children with disabilities by facilitating open communication between the parents and these entities and encouraging early resolution of disputes so that disagreements do not escalate and become adversarial. IDEA's dispute resolution procedures include provisions for State complaints, mediation, due process complaints and due process hearings, and resolution sessions, as described below.

State Complaints. IDEA's State complaint procedures permit parents and other interested individuals or organizations to file a complaint with the SEA or Part C State lead agency to seek resolution of any alleged violations of IDEA. The goal of the State complaint procedures is to resolve disputes while avoiding costly or time consuming due process hearings (71 FR 46600—Part B regulations; 76 FR 60214-60216—Part C regulations). The State complaint procedures provide an important means of ensuring that the educational or early intervention needs of children with disabilities are met (71 FR 46601; 76 FR 60214-60216).

Mediation. In response to increasing numbers of due process hearing requests, Congress amended IDEA in 1997 to require SEAs and Part C State lead agencies to make mediation available, at a minimum, whenever a request for a due process hearing is made. In 2004, Congress amended section 615(e) of IDEA to allow parties to use mediation to resolve disputes involving any matter under IDEA, not just those matters that are the subject of a due process complaint. (This amendment also applies to Part C through section 639(a)(8) of IDEA). In mediation, a neutral third party facilitates the resolution of disputes. Mediation is more likely than due process hearings to foster positive relationships between families and educators (U.S. Government Accountability Office, 2003).

Due Process Hearings. In due process hearings, an impartial, knowledgeable decision-maker resolves disputes. While due process hearings are an important protection, they can be costly, time consuming, and contentious, and they may damage relationships between the parties involved in the dispute.

Resolution Session. The 2004 amendments to IDEA added a requirement for a resolution session prior to a due process hearing. The resolution session requirement applies to all IDEA Part B due process hearing requests and to those IDEA Part C due process hearing requests filed in a State that has elected to adopt the Part B-type due process hearing procedures in 34 CFR 303.440 through 303.449. Under section 615(f)(1)(B) of IDEA, the LEA (or in the case of IDEA Part C, under 34 CFR 303.442, the State lead agency) must convene a meeting with the parents and relevant members of the child's individualized education program (IEP) or individualized family service plan (IFSP) team who have specific knowledge of the facts identified in the complaint. This provides the parents and the agency with an opportunity to resolve the complaint and avoid a due process hearing.

Early Resolution Practices. In addition to these methods of dispute resolution specifically required under IDEA, there are a variety of informal or “early resolution” practices that can be used to resolve disputes at the school or district level and avoid time-consuming and costly litigation (U.S. Government Accountability Office, 2003). In the preamble to the 2006 final regulations implementing Part B of IDEA, the Department encouraged States to explore the use of early resolution practices to facilitate the timely resolution of disputes and to preserve the relationships between families and educators (71 FR 46540, 46604).

Over the past seven years, data from State Performance Plans (SPPs) and Annual Performance Reports (APRs) submitted to the Office of Special Education Programs (OSEP) show a steady decline in the number of IDEA Part B due process hearings held across the country, down 68 percent since FY 2004. At the same time, SEAs and Part C State lead agencies are reporting an increase in the use of informal early resolution practices that have been shown to reduce the need for dispute resolution and facilitate early resolution of disputes. Examples of early resolution practices include training in conflict resolution, which is designed to equip individuals with skills to better communicate and negotiate their positions and interests, (Henderson, 2008), and IEP and IFSP facilitation.

Since 1998, OSEP has funded a technical assistance (TA) center to support States' implementation of timely and effective dispute resolution processes. (For further information on the work of the current center, please see the following Web site: www.directionservice.org/cadre.) The current center's funding will end in FY 2013.

The Department believes it is important to continue to fund a TA center that provides SEAs and Part C State lead agencies with resources that can help them effectively implement a range of dispute resolution options to ensure that the trend toward early, less costly, and less adversarial dispute resolution continues. SEAs and Part C State lead agencies also need information on how to collect and use data from dispute resolution systems to improve compliance with IDEA requirements. In addition, continued funding of a TA center on dispute resolution that works directly with OSEP-funded parent technical assistance centers (PTACs) will help ensure that parents and families have access to information on how to resolve their disagreements in positive and constructive ways.

Priority:

The purpose of this priority is to fund a cooperative agreement to support the establishment and operation of a Center on Dispute Resolution designed to produce, at a minimum, the following outcomes: (1) An increased capacity of SEAs and Part C State lead agencies to support local implementation of effective early resolution practices to resolve disputes and thereby decrease requests for State complaints and due process hearings; (2) an increased body of knowledge on strategies for collecting, reporting, and using high-quality data on dispute resolution; (3) an increased body of knowledge on exemplary practices for parents and families to resolve disputes in positive and constructive ways; (4) an improved ability of SEAs and Part C State lead agencies to implement a range of dispute resolution options, including methods of dispute resolution required under IDEA and early resolution practices; (5) an improved capacity of OSEP-funded PTACs to provide technical assistance to OSEP-funded parent centers on the range of effective dispute resolution options; and (6) an analysis of current information on State and national trends and other data about dispute resolution to determine the extent to which SEAs and Part C State lead agencies have: (a) Met the required timelines when resolving State complaints and issuing due process hearing decisions; (b) used resolution meetings and mediation to successfully resolve disputes between parents and LEAs or EIS providers; and (c) implemented effective methods of early dispute resolution.

In addition to these programmatic requirements, to be considered for funding under this absolute priority, applicants must meet the application and administrative requirements contained in this priority. OSEP encourages innovative approaches to meet these requirements, which are as follows:

(a) Demonstrate, in the narrative section of the application under “Significance of the Project,” how the proposed project will—

(1) Address the training and information needs of SEAs, Part C State lead agencies, and parents and families to resolve disputes arising from programs under Part B and Part C of IDEA. To address this requirement the applicant must—

(i) Present applicable national and State data demonstrating the training and information needs of SEAs, Part C State lead agencies, and parents and families to resolve disputes;

(ii) Demonstrate knowledge of current educational issues and policy initiatives in dispute resolution (e.g., the implementation and effectiveness of IEP/IFSP facilitation); and

(iii) Present information about the implementation and effectiveness of current dispute resolution systems in SEAs and Part C State lead agencies.

(2) Result in early resolution of disputes and improved compliance with IDEA dispute resolution requirements.

(b) Demonstrate, in the narrative section of the application under “Quality of the Project Services,” how the proposed project will—

(1) Ensure equal access and treatment for members of groups (e.g., race, color, national origin, language, linguistic background, gender, age, or disability) that traditionally have not engaged in, or have been underrepresented in accessing, dispute resolution options. To meet this requirement, the applicant must describe the process that will be used to—

(i) Identify the needs of the intended recipients (i.e., SEAs, Part C State lead agencies, and PTACs) for technical assistance and information; and

(ii) Ensure that services and products meet the needs of the intended recipients (e.g., creating materials in formats and languages accessible to the stakeholders served by the intended recipients).

(2) Meet its goals, objectives, and outcomes. To meet this requirement, the applicant must provide—

(i) Measurable intended project outcomes; and

(ii) The theory of action (i.e., a logic model) on how the proposed project will achieve the project outcomes.

(3) Use a conceptual framework to guide the development of project plans and activities, describing any underlying concepts, assumptions, expectations, beliefs, or theories, as well as the presumed relationship or linkages among these variables, and any empirical support for this framework;

(4) Be based on current research and evidence-based practices. To meet this requirement, the applicant must describe—

(i) The current research on the effectiveness of dispute resolution options and practices;

(ii) The current research about adult learning principles and how this information will be used to provide training and technical assistance to the intended recipients on implementing effective dispute resolution systems; and

(iii) The process the proposed project will use to incorporate current research and evidence-based practices in the development and delivery of its products and services.

(5) Develop products and provide services that are of sufficient quality, intensity, and duration to achieve the outcomes of the proposed project. To address this requirement, the applicant must describe—

(i) Its proposed activities to identify and expand the knowledge base in dispute resolution and early resolution practices;

(ii) Its proposed approach to universal, general TA,¹ including the intended recipients of the products and services under this approach;

¹ “Universal, general TA” means TA and information provided to independent users through their own initiative, resulting in minimal interaction with TA center staff and including one-time, invited or offered conference presentations by TA center staff. This category of TA also includes information or products, such as newsletters, guidebooks, or research syntheses, downloaded from the TA center's Web site by independent users. Brief communications by TA center staff with recipients, either by telephone or email, are also considered universal, general TA.

(iii) Its proposed approach to targeted, specialized TA,² including the intended recipients of the products and services under this approach and its proposed approach to measure the readiness of potential TA recipients to work with the project, including their current infrastructure, available resources, and ability to build capacity at the local level; and

² “Targeted, specialized TA” means TA service based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(iv) Its proposed approach to intensive, sustained TA,³ including the intended recipients of the products and services under this approach. To address this requirement, the applicant must describe—

³ “Intensive, sustained TA” means TA services often provided onsite and requiring a stable, ongoing relationship between the TA center staff and the TA recipient. TA services are defined as negotiated series of activities designed to reach a valued outcome. This category of TA should result in changes to policy, program, practice, or operations that support increased recipient capacity or improved outcomes at one or more systems levels.

(A) Its proposed plan for assisting SEAs, Part C State lead agencies, and PTACs to build training systems that include professional development based on evidence-based adult learning principles and coaching; and

(B) Its proposed plan for supporting SEAs, Part C State lead agencies, and PTACs in their work with hearing officers, IEP/IFSP Team facilitators, or other dispute resolution personnel, as well as families and personnel at each level of the education or early intervention system (e.g., regional TA providers, school districts, schools, service coordinators, and related service and EIS providers and personnel), to ensure that there is effective communication among these groups and that there are systems in place to support the use of a range of dispute resolution procedures and practices.

(6) Develop products and implement services to maximize the efficiency of an SEA's or Part C State lead agency's dispute resolution system. To address this requirement, the applicant must describe—

(i) How the proposed project will use technology to achieve the intended outcomes;

(ii) With whom the proposed project will collaborate and the intended outcomes of this collaboration; and

(iii) How the proposed project will leverage non-project resources to achieve the proposed project outcomes.

(c) Demonstrate, in the narrative section of the application under “Quality of the Evaluation Plan,” how—

(1) The proposed project will collect and analyze data related to specific and measurable goals, objectives, and outcomes of the project. To address this requirement, the applicant must describe—

(i) Proposed evaluation methodologies, including instruments, data collection methods, and possible analyses;

(ii) Proposed standards or targets for determining effectiveness; and

(iii) Proposed methods for collecting data on implementation supports and fidelity of implementation.

(2) The proposed project will use the evaluation results to examine the effectiveness of the project's implementation strategies and the progress toward achieving intended outcomes; and

(3) The methods of evaluation will produce quantitative and qualitative data that demonstrate whether the project achieved the intended outcomes.

(d) Demonstrate, in the narrative section of the application under “Adequacy of Project Resources,” how—

(1) The proposed project will encourage applications for employment from persons who are members of groups that have traditionally been underrepresented based on race, color, national origin, language/linguistic background, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as appropriate; and

(ii) Timelines and milestones for accomplishing the project tasks;

(2) Key project personnel and any consultants and subcontractors who will be allocated to the project and the appropriateness and adequacy of these time allocations to achieve the project's intended outcomes;

(3) The proposed management plan will ensure that the products and services provided are of high quality; and

(4) The proposed project will benefit from a diversity of perspectives, including families, EIS providers, educators, related service providers, TA providers, researchers, and policy makers, among others, in its development and operation.

(f) Meet the following program requirements—

(1) Include in Appendix A a logic model that depicts, at a minimum, the goals, activities, outputs, and outcomes of the proposed project. A logic model communicates how a project will achieve its outcomes and provides a framework for both the formative and summative evaluations of the project.

Note: The following Web sites provide more information on logic models: 232www.researchutilization.org/matrix/logicmodel_resource3c.html and www.tadnet.org/model_and_performance;

(2) Include in Appendix A a visual representation of the conceptual framework, if a visual representation is developed;

(3) Include in Appendix A a person-loading chart and timelines, as appropriate, to illustrate the management plan described in the narrative;

(4) Include in the budget attendance at the following:

(i) A one and one-half day kick-off meeting to be held in Washington, DC, after receipt of the award, and an annual planning meeting held in Washington, DC, with the OSEP project officer and other relevant staff during each subsequent year of the project period.

Note: Within 30 days of receipt of the award, a post-award teleconference must be held between the OSEP project officer and the grantee's project director or other authorized representative;

(ii) A two and one-half day project directors' conference in Washington, DC, during each year of the project period;

(iii) Two, two-day trips annually to present at Department briefings, Department-sponsored conferences, and other meetings, as requested by OSEP; and

(iv) A one-day intensive review meeting that will be held during the last half of the second year of the project period.

(5) Include in the budget a line item for an annual set-aside of five percent of the grant amount to support emerging needs that are consistent with the proposed project's intended outcomes, as those needs are identified in consultation with OSEP.

Note: With approval from the OSEP project officer, the project must reallocate any remaining funds from this annual set-aside no later than the end of the third quarter of each budget period; and

(6) Maintain a Web site that meets government or industry-recognized standards for accessibility.

Fourth and Fifth Years of the Project:

In deciding whether to continue funding the project for the fourth and fifth years, the Secretary will consider the requirements of 34 CFR 75.253(a), as well as—

(a) The recommendation of a review team consisting of experts selected by the Secretary. This review will be conducted during a one-day intensive meeting in Washington, DC, that will be held during the last half of the second year of the project period;

(b) The timeliness and effectiveness with which all requirements of the negotiated cooperative agreement have been or are being met by the project; and

(c) The quality, relevance, and usefulness of the project's activities and products and the degree to which the project's activities and products are aligned with the project's objectives and likely to result in the project achieving its proposed outcomes.

References:

Henderson, K. (2008, May). Optional IDEA alternative dispute resolution. Project Forum at the National Association of State Directors of Special Education (NASDSE) and Consortium for Appropriate Dispute Resolution in Special Education (CADRE). Retrieved from: www.projectforum.org/docs/OptionalIDEAAlternativeDisputeResolution.pdf.

U.S. Government Accountability Office. (2003, September). Special education: Numbers of formal disputes are generally low and States are using mediation and other strategies to resolve conflicts. Publication No. GAO-03-897. Retrieved from: www.gao.gov/new.items/d03897.pdf.

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1463 and 1481.

Applicable Regulations: (a) The Education Department General Administrative Regulations in 34 CFR parts 74, 75, 77, 79, 80, 81, 82, 84, 86, 97, 98, and 99. (b) The Education Department debarment and suspension regulations in 2 CFR part 3485.

Note: The regulations in 34 CFR part 79 apply to all applicants except federally recognized Indian tribes.

Note: The regulations in 34 CFR part 86 apply to institutions of higher education (IHEs) only.

II. Award Information

Type of Award: Cooperative agreement.

Estimated Available Funds: $650,000.

Contingent upon the availability of funds and the quality of applications, we may make additional awards in FY 2014 from the list of unfunded applicants from this competition.

Maximum Award: We will reject any application that proposes a budget exceeding $650,000 for a single budget period of 12 months. The Assistant Secretary for Special Education and Rehabilitative Services may change the maximum amount through a notice published in the Federal Register.

Estimated Number of Awards: 1.

Note: The Department is not bound by any estimates in this notice.

Project Period: Up to 36 months with an optional additional 24 months based on performance. Applications must include plans for both the 36-month award and the 24-month extension.

III. Eligibility Information

1. Eligible Applicants: SEAs; LEAs, including public charter schools that are considered LEAs under State law; IHEs; other public agencies; private nonprofit organizations; freely associated States and outlying areas; Indian tribes or tribal organizations; and for-profit organizations.

2. Cost Sharing or Matching: This program does not require cost sharing or matching.

3. Other General Requirements: (a) The projects funded under this program must make positive efforts to employ and advance in employment qualified individuals with disabilities (see section 606 of IDEA).

(b) Each applicant and grant recipient funded under this program must involve individuals with disabilities or parents of individuals with disabilities ages birth through 26 in planning, implementing, and evaluating the project (see section 682(a)(1)(A) of IDEA).

IV. Application and Submission Information

1. Address to Request Application Package: You can obtain an application package via the Internet or from the Education Publications Center (ED Pubs). To obtain a copy via the Internet, use the following address: www.ed.gov/fund/grant/apply/grantapps/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this competition as follows: CFDA number 84.326X.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 70 pages using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, or the letters of support. However, the page limit does apply to all of Part III.

We will reject your application if you exceed the page limit; or if you apply other standards and exceed the equivalent of the page limit.

3. Submission Dates and Times:

Applications Available: April 18, 2013.

Deadline for Transmittal of Applications: June 3, 2013.

Applications for grants under this competition must be submitted electronically using the Grants.gov Apply site (Grants.gov). For information (including dates and times) about how to submit your application electronically, or in paper format by mail or hand delivery if you qualify for an exception to the electronic submission requirement, please refer to section IV.7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: August 1, 2013.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, Central Contractor Registry and System for Award Management: To do business with the Department of Education, you must—

a. Have a Data Universal Numbering System (DUNS) number and a Taxpayer Identification Number (TIN);

b. Register both your DUNS number and TIN with the Central Contractor Registry (CCR)—and, after July 24, 2012, with the System for Award Management (SAM), the Government's primary registrant database;

c. Provide your DUNS number and TIN on your application; and

d. Maintain an active CCR or SAM registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR or SAM registration process may take five or more business days to complete. If you are currently registered with the CCR, you may not need to make any changes. However, please make certain that the TIN associated with your DUNS number is correct. Also note that you will need to update your registration annually. This may take three or more business days to complete. Information about SAM is available at SAM.gov.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this competition must be submitted electronically unless you qualify for an exception to this requirement in accordance with the instructions in this section.

a. Electronic Submission of Applications.

Applications for grants under the Center on Dispute Resolution competition, CFDA number 84.326X, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Center on Dispute Resolution at www.Grants.gov. You must search for the downloadable application package for this competition by the CFDA number. Do not include the CFDA number's alpha suffix in your search (e.g., search for 84.326, not 84.326X).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material. Additional, detailed information on how to attach files is in the application instructions.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because--

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Tina Diamond, U.S. Department of Education, 400 Maryland Avenue SW., room 4094, Potomac Center Plaza (PCP), Washington, DC 20202-2600. FAX: (202) 245-7617.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.326X), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.326X), 550 12th Street SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The Standing Panel requirements under section 682(b) of IDEA also have placed additional constraints on the availability of reviewers. Therefore, the Department has determined that, for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993, the Department has established a set of performance measures, including long-term measures, that are designed to yield information on various aspects of the effectiveness and quality of the Technical Assistance and Dissemination to Improve Services and Results for Children with Disabilities program. These measures focus on the extent to which projects provide high-quality products and services, the relevance of project products and services to educational and early intervention policy and practice, and the use of products and services to improve educational and early intervention policy and practice.

Grantees will be required to report information on their project's performance in annual reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Tina Diamond, U.S. Department of Education, 400 Maryland Avenue SW., Room 4094, PCP, Washington, DC 20202-2600. Telephone: (202) 245-6674.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., Room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: April 12, 2013.
Michael Yudin,
Delegated the Authority to Perform the Functions and Duties of the Assistant Secretary for Education and Rehabilitative Services.

[FR Doc. 2013-09160 Filed 4-17-13; 8:45 am]

BILLING CODE 4000-01-P